DEPARTMENT OF STATE

[Notice Number 3883]

Shipping Coordinating Committee; Notice of Meeting

The Shipping Coordinating Committee, will conduct an open meeting at 9:30 a.m. on Tuesday, February 26, 2002, in Room 2415 at U.S. Coast Guard Headquarters, 2100 Second Street, SW., Washington, DC. The purpose of this meeting will be to review the agenda items to be considered at the forty-seventh Session of the International Maritime Organization (IMO) Marine Environment Protection Committee (MEPC 47) to be held at the IMO headquarters in London from 4 through 8 March 2002. Proposed U.S. positions on the agenda items for MEPC 47 will be discussed. The major items for discussion for MEPC 47 include the following:

a. Harmful aquatic organisms in ballast water;

b. Recycling of ships;

c. Prevention of air pollution from ships;

d. Implementation of the Convention on the Prevention on Oil Pollution Preparedness, Response and Co-operation (OPRC) and the OPRC Protocol on Preparedness, Response and Co-operation to Pollution Incidents by Hazardous and Noxious Substances, 2000 and relevant conference resolutions;

e. Interpretation and amendments of Convention on the Prevention of Oil Pollution from Ships (MARPOL 73/78) and related Codes;

f. Harmful effects of the use of anti-fouling paints for ships;

g. Identification and protection of Special Areas and Particularly Sensitive Sea Areas;

h. Inadequacy of reception facilities;

i. Promotion of implementation and enforcement of MARPOL 73/78 and related Codes;

j. Preparation for the Ten-Year Review Conference of the United Nations Conference on Environment and Development (RIO+10);

k. Future role of formal safety assessment and human element issues; and

l. Matters related to the 1973 Intervention Protocol.

Please note that hard copies of documents associated with MEPC 47 will not be available at this meeting. Documents will be available in Adobe Acrobat format on CD-ROM on the day of the meeting. To requests documents prior to the meeting date, please write to the address provided below or download the documents from our web site.

Members of the public are invited to attend this meeting up to the seating capacity of the room. For further information, or to submit views in advance of the meeting, please contact Lieutenant Dave Beck, U.S. Coast Guard, Environmental Standards Division (G-MSO-4), 2100 Second Street, SW., Washington, DC 20593-0001; telephone (202) 267-0713; fax (202) 267-4690, e-mail dbeck@comdt.uscg.mil; or on-line at: http://www.uscg.mil/hq/g-m/mso/mso4/mepc.html.

Dated: January 28, 2002.
Stephen M. Miller,
Executive Secretary, Shipping Coordinating Committee, Department of State.

[FR Doc. 02-2861 Filed 2-5-02; 8:45 am]

BILLING CODE 4710-45-P